POSTAL SERVICE

39 CFR Part 111

Shipping Label Requirements

AGENCY: Postal Service.

ACTION: Proposed rule.

SUMMARY: The U.S. Postal Service, in its efforts to make package shipping easier for mailers, is developing standard guidelines for creating package shipping labels. The following changes are proposed to the markings (and endorsements) and Delivery Confirmation requirements in support of this effort:

• Addition of a service indicator at the top of the label to identify the class of mail.

• Modifications to the Delivery Confirmation format to support the new label design and identify the service option requested.

These changes will be consolidated into the Domestic Mail Manual (DMM) and subsequently into a publication, which will identify requirements and specifications to assist mailers in designing their shipping labels.

DATES: Comments must be received on or before January 2, 2001.

ADDRESSES: Mail or deliver written comments to John Gullo, Expedited Package Services, United States Postal Service, 475 L'Enfant Plaza SW., Room 4000NB, Washington, DC 20260-7165. Copies of all written comments (available for $0.15 per copy per page) will be available for inspection and photocopying between 9:00 a.m. and 4:00 p.m., Monday through Friday, at the following address: Library, United States Postal Service, 475 L'Enfant Plaza SW., Room 11800, Washington, DC 20260-1540.

FOR FURTHER INFORMATION CONTACT: John Gullo, 202-268-7322.

SUPPLEMENTARY INFORMATION: To meet customer ease-of-use needs, the Postal Service is developing a publication to help mailers design shipping labels for expedited and package products. Currently, a mailer or their vendor may design their own shipping labels providing they include all format elements specified in the DMM. Because of the expense involved in modifying mailing systems to conform to DMM requirements, mailers have requested that this information be made available in a single publication that is similar to other Postal Service publications used for designing letter, flat, and reply mail. By placing these standard requirements and guidelines into a single publication, it will be easier for mailers to create shipping labels that conform to DMM requirements. This, in turn, will improve the Postal Service's ability to process and deliver mailed items.

The DMM currently provides specifications for postage, identifying class of mail, addressing standards, and requirements for adding special services on shipping labels. The Postal Service is recommending the addition of service indicators to identify the class of mail, and modifications to the Delivery Confirmation and other customer printed special services barcode formats. These changes apply only to Priority Mail and Standard Mail (B).

The service indicators contain two elements, a service icon and a service banner. These new elements will satisfy the marking requirements for identifying the class of mail. The service icon appears in a 1-inch square in the upper left corner of the shipping label. Each of the supported services has a unique service icon to aid in handling the package. The letter “P” will be used to identify Priority Mail. All Standard Mail (B) subclasses (Parcel Post, Parcel Select, Bound Printed Matter, Special Standard Mail, and Library Rate) will be identified by a solid black box.

The service icon parameters are as follows:

• 1-inch (1″) square.

• Minimum 1-point light lines bordering area.

• Class of mail icon must be 0.75 inch (¾″) or greater.

• “P” for Priority Mail or solid black box for Standard Mail (B).

The service banner appears below the permit imprint indicia or postage area and service icon and is centered across the shipping label. The mail class or subclass is bordered above and below by separator lines to distinguish it from the surrounding elements.

The service banner parameters are as follows:

• The mail class or subclass for Standard Mail (B) must be printed in minimum 20-point bold sans serif typeface.

• Text must be in uppercase letters and centered on label.

• Minimum 1/16-inch clearance above and below text.

• Minimum 1-point separator lines above and below class of mail text.

There are two modifications recommended to the existing Delivery Confirmation barcode format. These changes will help postal employees recognize Delivery Confirmation and other special services barcodes when printed on mailer shipping labels. The changes include extending the horizontal identification bars across the width of the label and adding identifiers to the Delivery Confirmation barcode format to help distinguish the retail from the electronic option barcodes when the postage amount is evident on the mailpiece (e.g., meter stamps, PC postage, adhesive postage stamps).

Currently, DMM S918 requires the length of the horizontal identification bars above and below the Delivery Confirmation barcode to be equal to the length of the barcode. This specification is being modified to recommend that the identification bars extend across the width of the label. The identification bars may be used only when a special services barcode is printed on the label. Additionally, mailers who print their own Delivery Confirmation barcodes will be required to identify on the label if they are using the electronic option. This change will be required only for items on which the postage amount is evident on the mailpiece. Labels must be identified with the following information:

(a) “e/” in front of the “USPS DELIVERY CONFIRMATION” text (i.e., “e/ USPS DELIVERY CONFIRMATION”).

(b) At the mailers option, the text “ELECTRONIC RATE APPROVED #[D-U-N-S®]” (where D-U-N-S® is the customer certification number) may be added below the bottom horizontal identification bar.

Mailers will be required to add the electronic identifier(s) by September 14, 2001.

Samples of Proposed Standard Shipping Label for Priority Mail & Parcel Post

Sample of Modifications to Electronic Option Delivery Confirmation Labels

Although exempt from the notice and comment requirements of the Administrative Procedure Act (5 U.S.C. 553(b), (c)) regarding proposed rulemaking by 39 U.S.C. 410(a), the Postal Service invites comments on the following proposed revisions of the DMM, incorporated by reference in the Code of Federal Regulations. See 39 CFR Part 111.

List of Subjects in 39 CFR Part 111

Postal Service.

PART 111—[AMENDED]

1. The authority citation for 39 CFR Part 111 continues to read as follows:

Authority: 5 U.S.C. 552(a); 39 U.S.C. 101, 401, 403, 404-414, 3001-3011, 3201-3219, 3403-3406, 3621, 3626, 5001.

2. Revise the DMM as follows:

* * * * *

E Eligibility

* * * * *

E100 First-Class Mail

* * * * *

E120 Priority Mail

* * * * *

1.4 Marking

[Add the following to the end of 1.4:]

Shipping labels are recommended to contain service indicators composed of two elements, the service icon and service banner (see Exhibit 1.4).

(a) If used, the service icon should appear in a 1-inch square in the upper left corner of the shipping label. The letter “P” must be printed inside the 1-inch square and must be 0.75 inches (¾″) or greater. A minimum ¾-point line must border the 1-inch square.

(b) The service banner should appear directly below the postage payment area and the service icon, and it should extend across the shipping label. If the service banner is used, the text “USPS PRIORITY MAIL” must be printed in minimum 20-point bold sans serif typeface, uppercase letters, centered within the banner, and bordered above and below by minimum 1-point separator lines. There must be 1/16-inch clearance above and below the text.

* * * * *

[Add the following exhibit:]

Exhibit 1.4

Priority Mail Service Indicators

* * * * *

M Mail Preparation and Sortation

M000 General Preparation Standards

M010 Mailpieces

* * * * *

M012 Markings and Endorsements

* * * * *

3.1 Basic Markings

* * * * *

[Add the following to the end of 3.1:]

Optionally, the basic required marking may be printed on the shipping label as service indicators composed of a service icon and service banner:

(a) The service icon must appear in a 1-inch square in the upper left corner of the shipping label. If the service icon is used, a 1-inch solid black square will identify all Standard Mail (B) subclasses.

(b) The service banner must appear directly below the postage payment area and the service icon, and it must extend across the shipping label. If the service banner is used, the appropriate subclass marking (e.g., PARCEL POST, BOUND PRINTED MATTER, etc.) must be preceded by the text “USPS” and must be printed in minimum 20-point bold sans serif typeface, uppercase letters, centered within the banner, and bordered above and below by minimum 1-point separator lines. There must be 1/16-inch clearance above and below the text.

* * * * *

[Add the following exhibit:]

Exhibit 3.1

Standard Mail (B) Service Indicators

* * * * *

S Special Services

S900 Special Postal Services

* * * * *

S918 Delivery Confirmation

* * * * *

[Revise Exhibit 2.1c to read as follows:]

Exhibit 2.1c

Privately Printed Label

* * * * *

3.3 Printing

[Replace a with the following:]

a. Each barcoded label must bear a unique Delivery Confirmation PIC barcode as specified in 3.2. The text “USPS DELIVERY CONFIRMATION” (if using retail service option, as specified in 1.4) or “e/USPS DELIVERY CONFIRMATION” (if using electronic service option, as specified in 1.4, and the postage amount is evident on the mailpiece) must be printed between ⅛ inch and ½ inch above the barcode in minimum 12-point bold sans serif type. Additionally, mailers approved for the electronic service option, at their discretion, may print the text “ELECTRONIC RATE APPROVED #[D-U-N-S® NUMBER]” in minimum 8-point bold sans serif type directly below the bottom horizontal identification bar (see Exhibit 3.3). Human-readable characters that represent the barcode ID must be printed between ⅛ inch and ½ inch under the barcode in minimum 10-point bold sans serif type. These characters must be parsed in accordance with Publication 91. A minimum ⅛-inch clearance must be between the barcode and any printing. The preferred range of widths of narrow bars and spaces is 0.015 inch to 0.017 inch. The width of the narrow bars or spaces must be at least 0.013 inch but no more than 0.021 inch. All bars must be at least ¾ inch high. Minimum 1/16-inch bold bars must appear between ⅛ inch and ½ inch above and below the human-readable endorsements to segregate the Delivery Confirmation barcode from other areas of the shipping label. The line length should extend across the width of the label but must extend the length of the barcode at a minimum (see Exhibit 2.1c). Only information relating to Delivery Confirmation and/or other special services must be placed between these lines. Mailers will be required to comply with this change by September 14, 2001.

* * * * *

[Add Exhibit 3.3:]

Exhibit 3.3

Electronic Service Option Identification

Stanley F. Mires,
Chief Counsel, Legislative.

[FR Doc. 00-30582 Filed 11-30-00; 8:45 am]

BILLING CODE 7210-12-U